DEPARTMENT OF LABOR

Employee Benefits Security Administration

Notice of 194th Meeting of the Advisory Council on Employee Welfare and Pension Benefit Plans

Pursuant to the authority contained in Section 512 of the Employee Retirement Income Security Act of 1974 (ERISA), 29 U.S.C. 1142, the 194th open meeting of the Advisory Council on Employee Welfare and Pension Benefit Plans (also known as the ERISA Advisory Council) will be held on November 5-6, 2018.

The meeting will take place at the U.S. Department of Labor, 200 Constitution Avenue NW, Washington, DC 20210 on November 5, from 1:00 p.m. to approximately 5:00 p.m. and on November 6, from 9:00 a.m. to approximately 4:00 p.m., with a break for lunch. The afternoon session on November 5 and the morning session on November 6 will be in C-5521 Room 4. The afternoon session on November 6 will take place in Room S-2508. The purpose of the sessions on November 5 and the morning of November 6 is for the Advisory Council members to finalize the recommendations they will present to the Secretary of Labor. At the November 6 afternoon session, the Council members will receive an update from leadership of the Employee Benefits Security Administration (EBSA) and present their recommendations.

The Council recommendations will be on the following issues: (1) Evaluating the Department's Regulations and Guidance on ERISA Bonding Requirements and Exploring Reform Considerations and (2) Lifetime Income Products as a Qualified Default Investment Alternative (QDIA)—Focus on Decumulation and Rollovers. Descriptions of these topics are available on the Advisory Council page of the Employee Benefits Security Administration website, at https://www.dol.gov/agencies/ebsa/about-ebsa/about-us/erisa-advisory-council.

Organizations or members of the public wishing to submit a written statement may do so by submitting 30 copies on or before October 29, 2018 to Larry Good, Executive Secretary, ERISA Advisory Council, U.S. Department of Labor, Suite N-5623, 200 Constitution Avenue NW, Washington, DC 20210. Statements also may be submitted as email attachments in word processing or pdf format transmitted to good.larry@dol.gov. It is requested that statements not be included in the body of an email. Statements deemed relevant by the Advisory Council and received on or before October 29 will be included in the record of the meeting and made available through the EBSA Public Disclosure Room. Do not include any personally identifiable information (such as name, address, or other contact information) or confidential business information that you do not want publicly disclosed.

Individuals or representatives of organizations wishing to address the Advisory Council should forward their requests to the Executive Secretary or telephone (202) 693-8668. Oral presentations will be limited to ten minutes, time permitting, but an extended statement may be submitted for the record. Individuals with disabilities who need special accommodations should contact the Executive Secretary by October 29, 2018 at the address indicated.

Signed at Washington, DC, this 28th day of September 2018.
Preston Rutledge,
Assistant Secretary, Employee Benefits Security Administration.

[FR Doc. 2018-21663 Filed 10-3-18; 8:45 am]

BILLING CODE 4510-29-P